FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

ABF Freight System, Inc. (NVO), 3801 Old Greenwood Road, Fort Smith, AR 72903, Officers: Stephen J. Vicary, Assistant Vice President (QI), Roy M. Slagle, President, Application Type: Transfer of Jurisdiction from Delaware to Arkansas.

AC Export, LLC (OFF), 8351 Northwest 68th Street, Miami, FL 33166, Officers: Alvaro Castillo, Manager (QI), Elizabeth D. de Castillo, Manager, Application Type: New OFF License.

Axima USA LLC (NVO & OFF), 5230 Pacific Concourse Drive, Suite 135, Los Angeles, CA 90045, Officers: Michelle Carollo, Manager (QI), Sandra Fairchild, Manager, Application Type: Add trade name KLSS.

Barthco International, Inc. dba OHL-International (NVO & OFF), 5101 South Broad Street, Philadelphia, PA 19112, Officers: Theresa Brougher, Assistant Vice President (QI), Patrick Moebel, President, Application Type: QI Change.

Blue Circle & Co. (NVO), 1142 S. Diamond Bar Blvd., Suite 329, Diamond Bar, CA 91765, Officers: Ping Chuan Tu, CEO (QI), Josephine Cheng, President, Application Type: New NVO License.

Caesar International Logistics (LAX) Co. Ltd. (NVO), 572 S. Barranca Avenue, Covina, CA 91723, Officers: Ying Hu, Vice President (QI), Ping Zhang, President, Application Type: New NVO License.

CIL Freight, Inc. (NVO & OFF), 1990 Lakeside Parkway, Suite 300, Tucker, GA 30084, Officer: Ying Liu, President (QI), Application Type: QI Change.

CMA CGM Logistics USA LLC (NVO & OFF), 1 Meadowlands Plaza, Suite 201, East Rutherford, NJ 07073, Officers: Stefan Weber, Managing Director (QI), Diane Mendez, Secretary, Application Type: QI Change.

CR & J Logistics, Inc dba Brightwater Shipping Services (NVO & OFF), 8401 Lake Worth Road, Suite 122, Lake Worth, FL 33467, Officers: Lawrence C. Freeman, Vice President (QI), Ronald S. Penn, President, Application Type: QI Change.

Helmsman Freight Solutions, LLC (NVO & OFF), 7600 NW 82nd Place, Miami, FL 33166, Officers: Ismael G. Diaz, Vice President (QI), Arturo Corona, Vice President and Sales Manager, Application Type: Additional QI.

Herco Freight Forwarders, Inc. (NVO & OFF), 7700 NW 81st Place, Suite 1, Medley, FL 33166, Officers: Romulo F. Souza, Secretary (QI), Kesia Pompeu, President, Application Type: New NVO & OFF License.

HJM International of NY Inc. (NVO & OFF), 15339 Rockaway Blvd., Suite 2, Jamaica, NY 11434, Officers: Raymond Mandil, President (QI), Mireille Drabmann, Secretary, Application Type: Add OFF Service.

Interlog USA, Inc. (NVO), 2818A Anthony Lane So., Minneapolis, MN 55418, Officers: David Canfield, President (QI), Justin Engelmeier, Secretary, Application Type: QI Change.

Johanson Transportation Service (NVO & OFF), 5583 E. Olive Avenue, Fresno, CA 93727, Officers: Danielle N. Bidegarary, Vice President (QI), Larry Johanson, Director, Application Type: QI Change.

Overseas NVOCC Corp. (NVO & OFF), 8305 NW 27th Street, Suite 111, Miami, FL 33122, Officers: Claudio R. Lopez, Secretary (QI), Jorge Perez, President, Application Type: New NVO & OFF License.

Prestige Shipping Inc. (NVO), 3392 Guider Avenue, Unit 15, Brooklyn, NY 11235, Officer: Vadim Alper, President (QI), Application Type: New NVO License.

Romax Logistics, Inc (NVO & OFF), 861 NE 72nd Terrace, Miami, FL 33138, Officer: Maximino Flores, President (QI), Application Type: New NVO & OFF License.

Sara Barnes dba Aras Forwarding (OFF), 10805 180th Avenue E, Bonney Lake, WA 98391, Officer: Sara Foster, Sole Proprietor (QI), Application Type: Name Change to Sara Foster dba Aras Forwarding.

Transmodal Solutions LLC (NVO & OFF), 25405 162nd Place SE., Covington, WA 98042, Officer: James T. Brieger, Member (QI), Application Type: New NVO & OFF License.

UIA Worldwide Logistics, Inc. (NVO), 265 E. Redondo Beach Blvd., Gardena, CA 90248, Officers: Doris Ma Ling, CFO (QI), Alvin Lin, President, Application Type: QI Change.

Dated: July 15, 2014.
By the Commission.
Karen V. Gregory,
Secretary.

[FR Doc. 2014-16979 Filed 7-17-14; 8:45 am]

BILLING CODE 6730-01-P